Proclamation 10358 of March 31, 2022

National Cancer Control Month, 2022

By the President of the United States of America

A Proclamation

Since the Congress passed the landmark National Cancer Act in 1971, our Nation has made tremendous strides in preventing, detecting, and treating cancer. But nearly all families—including my own and that of the Vice President's—still know the pain a cancer diagnosis brings. Despite our Nation's progress over the last 50 years, cancer in its many forms is still the second leading cause of death in the United States, with more than 600,000 deaths and nearly 1.9 million new cancer diagnoses each year. A cancer diagnosis remains a crushing blow to those diagnosed, as well as their loved ones. In the name of all those we have lost and for all those still fighting, I believe we can end cancer as we know it.

During National Cancer Control Month, we renew our commitments to improve cancer prevention, promote early detection, enhance treatment, and support the needs of cancer patients, survivors, and caregivers. We recognize that while the fight against cancer is often personal, the desire to make cancer more preventable, detectable, and treatable is one that has the potential to unite us as a Nation, inspiring us to stand together and work together.

In 2016, as Vice President, I led the Cancer Moonshot to accelerate our progress against cancer and take advantage of 21st century science and technology—an effort that has catalyzed change across the cancer community. As President, I have reignited the Cancer Moonshot and set ambitious new goals to reduce the death rate from cancer by 50 percent over the next 25 years and to improve the experience of people and their families living with and surviving cancer. We are creating the Advanced Research Projects Agency for Health (ARPA-H), with the singular purpose of expediting breakthroughs in the prevention, detection, and treatment of cancer and other deadly diseases.

As part of a recommitment to the Cancer Moonshot, the First Lady and I announced a call to action on cancer screening and early detection. Our goal is to drive progress on potentially life-saving screenings that so many Americans have missed as a result of the pandemic and to help ensure that everyone in the United States benefits equitably from the technology we have to detect, diagnose, and treat cancer. We urge every American to get back on track with their recommended screenings, and we implore the public and private sectors to increase access to early detection for individuals and communities. To learn more about which cancer screenings are appropriate for you, talk to your healthcare provider, visit cdc.gov/cancerscreening or cancer.gov/screeningtests, or call 1-800-4-CANCER.

We also encourage Americans to take the proven steps to lower their risk for many forms of cancer. Experts agree that reducing tobacco use, eating healthily, engaging in regular physical activity and exercise, limiting alcohol consumption, and reducing exposure to the sun when it is at its peak can help reduce the risk of a cancer diagnosis. Given that cigarette smoking is responsible for 30 percent of all cancer deaths, helping people quit smoking and limiting exposure to secondhand smoke can save lives. Resources are available at SmokeFree.gov, by calling 1-800-QUIT-NOW, or by texting QUITNOW to 333888.

Access to health coverage is critical to the fight against cancer, and we were proud to expand access to quality, affordable coverage through the American Rescue Plan. Most health insurance plans are required to cover recommended cancer screenings with no out-of-pocket costs. But for millions of Americans, the care they need is not within reach. That is why I am committed to reducing prescription drug costs and health insurance premiums for millions of Americans and closing the Medicaid coverage gap in States that refuse to expand Medicaid. This would allow millions more of our fellow Americans to access cancer screenings and tobacco cessation services.

We also thank the doctors, nurses, researchers, caregivers, and advocates who are dedicated to finding treatments and cures and reducing the pain and burden of cancer. Our Nation's health care workers continued to provide care and support to cancer patients and their loved ones, even as a global pandemic made their jobs more difficult and demanding, and our Nation is forever grateful.

During Cancer Control Month, we reaffirm our national commitment to meet the scourge of cancer with urgency and with all the tools and talent we can bring to bear. For survivors and caregivers who carry the physical and mental scars of cancer treatment and recovery, for those who we have lost, and for those who we can save—let us end cancer as we know it.

NOW, THEREFORE, I, JOSEPH R. BIDEN JR., President of the United States of America, do hereby proclaim April 2022 as National Cancer Control Month. I encourage citizens, government agencies, private businesses, nonprofit organizations, and other interested groups to join in activities that will increase awareness of what Americans can do to prevent, detect, treat, and control cancer.

IN WITNESS WHEREOF, I have hereunto set my hand this thirty-first day of March, in the year of our Lord two thousand twenty-two, and of the Independence of the United States of America the two hundred and forty-sixth.

[FR Doc. 2022-07267

Filed 4-4-22; 8:45 am]

Billing code 3395-F2-P